DEPARTMENT OF DEFENSE

Department of the Army

Army Science Board; Notice of Closed Meeting

In accordance with section 10(a)(2) of the Federal Advisory Committee Act (Pub. L. 92-463), an announcement is made of the following Committee Meeting:

Name of Committee: Army Science Board, Objective Force Soldier, Leadership Meeting.

Date of Meeting: June 5 and 6, 2001.

Place: SAIC, McLean, VA., 8 a.m.-5 p.m.

Summary: The Army Science Board's (ASB) Summer Study Leadership on the “Objective Force Soldier/Soldier Systems” will meet for the purpose of “pre-decisions” and FY2001 SS general discussion. As this session is for the purposes of laying the framework for the two-week report writing session and outbrief to Army leadership and because the proprietary matters to be discussed are so inextricably intertwined, this precludes opening any portion of these meetings to the public.

Contact Person: For further information, please contact Everett R. Gooch at (703) 604-7479.

Wayne Joyner,
Executive Assistant, Army Science Board.

Agenda

June 5-6, 2001

8 a.m.-5 p.m. (both days) Group discussion and leadership decision.

[FR Doc. 01-13649 Filed 5-30-01; 8:45 am]

BILLING CODE 3710-08-M